DEPARTMENT OF VETERANS AFFAIRS

[OMB Control No. 2900-0060]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to process beneficiaries claims for payment of insurance proceeds.

DATES: Written comments and recommendations on the proposed collection of information should be received on or before May 27, 2005.

ADDRESSES: Submit written comments on the collection of information to Nancy J. Kessinger, Veterans Benefits Administration (20M35), Department of Veterans Affairs, 810 Vermont Avenue, NW., Washington, DC 20420 or e-mail: irmnkess@vba.va.gov. Please refer to “OMB Control No. 2900-0060” in any correspondence.

FOR FURTHER INFORMATION CONTACT: Nancy J. Kessinger at (202) 273-7079 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Claim for One Sum Payment (Government Life Insurance), VA Form 29-4125.

b. Claim for Monthly Payments (National Service Life Insurance), VA Form 29-4125a.

c. Claim for Monthly Payments (United States Government Life Insurance, (USGLI)), VA Form 29-4125k.

OMB Control Number: 2900-0060.

Type of Review: Extension of a currently approved collection.

Abstract: Beneficiaries of deceased veterans must complete VA Form 29-4125 to apply for proceeds of the veteran's Government Insurance policies. If the beneficiary desires monthly installment in lieu of one lump payment he or she must complete VA Forms 29-4125a and 29-4125k. VA uses the information to determine the claimant's eligibility for payment of insurance proceeds and to process monthly installment payments.

Affected Public: Individuals or households.

Estimated Annual Burden: 8,787 hours.

a. VA Form 29-4125—8,200 hours.

b. VA Form 29-4125a—462 hours.

c. VA Form 4125k—125 hours.

Estimated Average Burden Per Respondent:

a. VA Form 29-4125—6 minutes.

b. VA Form 29-4125a—15 minutes.

c. VA Form 4125k—15 minutes.

Frequency of Response: On occasion.

Estimated Number of Respondents: 84,350.

a. VA Form 29-4125—82,000.

b. VA Form 29-4125a—1,850.

c. VA Form 4125k—500.

Dated: March 17, 2005.
By direction of the Secretary.
Martin Hill,
Management Analyst, Records Management Service.

[FR Doc. E5-1322 Filed 3-25-05; 8:45 am]

BILLING CODE 8320-01-P